DEPARTMENT OF ENERGY

Federal Energy Regulatory Commission

Combined Notice of Filings #1

Take notice that the Commission received the following exempt wholesale generator filings:

Docket Numbers: EG17-71-000.

Applicants: Playa Solar 1, LLC.

Description: Notice of Self-Certification of Exempt Wholesale Status of Playa Solar 1, LLC.

Filed Date: 3/2/17.

Accession Number: 20170302-5187.

Comments Due: 5 p.m. ET 3/23/17.

Docket Numbers: EG17-72-000.

Applicants: Playa Solar 2, LLC.

Description: Notice of Self-Certification of Exempt Wholesale Generator Status of Playa Solar 2, LLC.

Filed Date: 3/2/17.

Accession Number: 20170302-5189.

Comments Due: 5 p.m. ET 3/23/17.

Take notice that the Commission received the following electric rate filings:

Docket Numbers: ER16-505-002.

Applicants: South Central MCN LLC.

Description: Compliance filing: Amended Compliance Filing to be effective 4/1/2016.

Filed Date: 3/2/17.

Accession Number: 20170302-5192.

Comments Due: 5 p.m. ET 3/23/17.

Docket Numbers: ER16-1023-003.

Applicants: ISO New England Inc., Eversource Energy Service Company.

Description: Compliance filing: Merger Cost Recovery Settlement Compliance Filing; Docket ER16-1023-000 to be effective 6/1/2016.

Filed Date: 3/1/17.

Accession Number: 20170301-5310.

Comments Due: 5 p.m. ET 3/22/17.

Docket Numbers: ER17-349-001.

Applicants: PJM Interconnection, L.L.C.

Description: Compliance filing: Compliance Filing per order issued January 12, 2017 in Docket No. ER17-349-000 to be effective N/A.

Filed Date: 3/2/17.

Accession Number: 20170302-5181.

Comments Due: 5 p.m. ET 3/23/17.

Docket Numbers: ER17-1092-000.

Applicants: Southwest Power Pool, Inc.

Description: § 205(d) Rate Filing: Attachment AE Revisions—Variable Demand Curve and Scarcity Pricing Methodology to be effective 5/11/2017.

Filed Date: 3/2/17.

Accession Number: 20170302-5200.

Comments Due: 5 p.m. ET 3/23/17.

Docket Numbers: ER17-1093-000.

Applicants: Midcontinent Independent System Operator, Inc.

Description: § 205(d) Rate Filing: 2017-03-03_SA 3005 CMS-MISO ENRIS Agreement (J469) to be effective 2/28/2017.

Filed Date: 3/3/17.

Accession Number: 20170303-5053.

Comments Due: 5 p.m. ET 3/24/17.

Docket Numbers: ER17-1094-000.

Applicants: PJM Interconnection, L.L.C.

Description: § 205(d) Rate Filing: Original Service Agreement No. 4633, Queue No. AB1-026 to be effective 2/1/2017.

Filed Date: 3/3/17.

Accession Number: 20170303-5055.

Comments Due: 5 p.m. ET 3/24/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 3, 2017.
Nathaniel J. Davis, Sr.,
Deputy Secretary.

[FR Doc. 2017-04638 Filed 3-8-17; 8:45 am]

BILLING CODE 6717-01-P